ENVIRONMENTAL PROTECTION AGENCY

[ER-FRL-6638-7]

Environmental Impact Statements; Notice of Availability

Responsible Agency: Office of Federal Activities, General Information (202) 564-7167 or http://www.epa.gov/compliance/nepa/.

Weekly receipt of Environmental Impact Statements

Filed March 17, 2003 through March 21, 2003

Pursuant to 40 CFR 1506.9.

EIS No. 030119, Draft Supplement, AFS, MT, Threemile Stewardship Project, Proposed Short-Term and Long-Term Vegetation and Road Management Activities, Ashland Ranger District, Custer National Forest, Powder and Rosebud Counties, MT, Comment Period Ends: May 12, 2003, Contact: Elizabeth McFarland (406) 784-2344. This document is available on the Internet at: http://www.fs.fed.us/rl/custer/.

EIS No. 030120, Draft Supplement, AFS, UT, Long Deer Vegetation Management Project, To the South Spruce Ecosystem Rehabilitation Project, Implementation, Dixie National Forest, Cedar City Ranger District, Iron and Kane Counties, UT, Comment Period Ends: May 12, 2003, Contact: Phillip G. Eisenhauer (435) 865-3200.

EIS No. 0230121, Draft EIS, COE, CA, East Cliff Drive Bluff Protection and Parkway Project, Evaluate Alternatives for Coastal Bluff Erosion Protection, City of Santa Cruz, Santa Cruz County, CA, Comment Period Ends: May 12, 2003, Contact: Sarah Cameron (415) 977-8538.

EIS No. 030122, Final EIS, FHW, CA, CA-78/111 Brawley Bypass, Construction of an Expressway from CA-86 to CA-11, City of Brawley, Funding, Imperial County, CA, Wait Period Ends: April 28, 2003, Contact: Jeff Lewis (916) 498-5035.

EIS No. 030123, Final Supplement, JUS, CA, Pinal County Private Detention Facility, Updated Information, Single Contract for 3,000 Beds Possible Sites (1) Undeveloped Parcel of Land in the City of Eloy and the Existing Central Arizona Detention Center Located in Florence, Pinal County, AZ, Wait Period Ends: April 28, 2003, Contact: Charles Coburn (202) 307-9045.

EIS No. 030124, Draft EIS, NPS, DC, Rock Creek Park and the Rock Creek and Potomac Parkway Project, General Management Plan, Implementation, Washington, DC, Comment Period Ends: May 12, 2003, Contact: Adrienna Coleman (202) 282-1063. This document is available on the Internet at: http://www.nps.gov/rocr.

EIS No. 030125, Draft EIS, TVA, TN, Rarity Pointe Commercial Recreation and Residential Development on Tellico Reservoir Project, Request for TVA's Land and Approval of Water Use Facilities, Tellico Reservoir, Loudon County, TN, Comment Period Ends: May 12, 2003, Contact: Richard Toennisson (865) 632-8517.

EIS No. 030126, Draft EIS, AFS, UT, Monticello and Blanding Municipal Watershed Improvement Projects, Implementation, Manti-La Sal National Forest, Monticello Ranger District, San Juan County, UT, Comment Period Ends: May 12, 2003, Contact: Greg T. Montgomery (435) 587-2041.

EIS No. 030127, Draft EIS, BLM, WY, West Hay Creek Coal Lease Application, To Lease Federal Coal to the Buckskin Mine in Wyoming Powder River Basin, Campbell County, WY, Comment Period Ends: May 27, 2003, Contact: Patricia Karbs (307) 261-7600. This document is available on the Internet at: http://www.wy.blm.gov/nepa/.

EIS No. 030128, Draft EIS, NPS, AZ, Petrified Forest National Park General Management Plan Revision, Implementation, Navajo and Apache Counties, AZ, Comment Period Ends: May 30, 2003, Contact: Suzy Stutzman (303) 987-6671. This document is available on the Internet at: http://planning.den.nps.gov/plans.cfm.

EIS No. 030129, Draft EIS, FHW, ND, Liberty Memorial Bridge Replacement Project, Rehabilitate or Reconstruct Due to Poor and Deteriorating Structural, U.S. Coast Guard Permit and U.S. Army COE Section 10 and 404 Permits, Missouri River, Bismarck and Mandan, ND, Comment Period Ends: May 12, 2003, Contact: Mark Schrader Ext.111 (701) 250-4343.

EIS No. 030130, FINAL EIS, BLM, OR, Rogue National Wild and Scenic River Hellgate Recreation Area (Applegate River to Grave Creek) Management Plan, Implementation, Bedford District, Josephine County, OR, Wait Period Ends: April 28, 2003, Contact: Cori Cooper (541) 618-2428.

Amended Notices

EIS No. 030115, Draft EIS, FRC, CA, Pit 3, 4, 5 Hydroelectric Project, (FERC No. 233-081), Application for New License, Pit River, Shasta-Trinity National Forest, Shasta County, CA, Due: May 5, 2003, Contact: John Mudre (202) 502-8902. Revision of FR Notice Published on 3/21/2003: Correction to Document Status from Final to Draft.

Dated: March 25, 2003.
Joseph C. Montgomery,
Director, NEPA Compliance Division, Office of Federal Activities.

[FR Doc. 03-7502 Filed 3-27-03; 8:45 am]

BILLING CODE 6560-50-P